DEPARTMENT OF THE INTERIOR

National Park Service

[NPS-WASO-NAGPRA-NPS0036386; PPWOCRADN0-PCU00RP14.R50000]

Notice of Inventory Completion: Texas Department of Transportation, Austin, TX

AGENCY: National Park Service, Interior.

ACTION: Notice.

SUMMARY: In accordance with the Native American Graves Protection and Repatriation Act (NAGPRA), the Texas Department of Transportation (TxDOT) has completed an inventory of human remains and associated funerary objects and has determined that there is a cultural affiliation between the human remains and associated funerary objects and Indian Tribes or Native Hawaiian organizations in this notice. The human remains and associated funerary objects were removed from Anderson County, TX.

DATES: Repatriation of the human remains and associated funerary objects in this notice may occur on or after September 18, 2023.

ADDRESSES: Scott Pletka, TxDOT, 6230 East Stassney Lane, Austin, TX 78701, telephone (512) 865-8694, email scott.pletka@txdot.gov.

SUPPLEMENTARY INFORMATION: This notice is published as part of the National Park Service's administrative responsibilities under NAGPRA. The determinations in this notice are the sole responsibility of TxDOT. The National Park Service is not responsible for the determinations in this notice. Additional information on the determinations in this notice, including the results of consultation, can be found in the inventory or related records held by TxDOT.

Description

In 2015 and 2016, archeologists working on behalf of TxDOT removed human remains and associated funerary objects from 32 burials at the A. S. Mann site (41AN201) in Anderson County, Texas. The burials contained fragmentary physical remains belonging to 12 juveniles, six adult males, four adult females, and 12 adults of indeterminate sex. The 1,125 associated funerary objects include one antler fragment, 194 arrow points or arrow point fragments (including four Bassett points, three untyped arrow point fragments, one Harrell point, 165 Perdiz points, seven Perdiz Side-notched points, three Triangular points, 10 Turney points, and one Washita point), three pieces of bentonite, one beveled edge tool, nine bifaces, 22 bottles (including eight Hume Engraved, one Hume-Poynor Engraved, one Killough Pinched, one Mann Punctated, 10 Poynor Engraved, and one untyped plain ware), 14 bowls (including two Hood Engraved, one Mann Punctated, one Patton Engraved, three Poynor Engraved, one untyped fine ware, two untyped plain ware, and four untyped utility ware), 101 carinated bowls (including six Patton Engraved, three Poynor Brushed, 87 Poynor Engraved, one Taylor Engraved, two untyped plain ware, and two untyped specimens), two celts, 11 pieces of charcoal, one piece of red clay, 17 pieces of lithic debitage, 12 Hood Engraved effigy bowls, one end scraper, one end-side scraper, two heavy fraction flotation samples from burial fill, three pieces of hematite, 35 jars (including nine Bullard Brushed, 11 Killough Pinched, six Mann Punctated, one Maydelle Incised, two Patton Engraved, three Poynor Engraved, one untyped plain ware, and two untyped utility ware), one piece of lead, two light fraction flotation samples from burial fill, one marine shell conch columella, four pebbles (including three polished and one unmodified), 10 elbow pipes or elbow pipe fragments (including five untyped, one untyped rim sherd, and four Neches), one untyped utility ware rattle bowl, two unidentified rodent bones, 385 pottery sherds (including 42 Bullard Brushed, 168 decorated, 40 plain, 38 Poynor Engraved, 15 untyped specimen, and 82 untyped utility ware), one silver box with Spanish insignia, 68 samples of burial fill, one ferruginous sandstone tool fragment, one turquoise pendant, one unidentified botanical remain, one unidentified faunal bone, one piece of unidentified metal, two pieces of unidentified minerals, one piece of unidentified pottery, and 212 samples of fill from within the vessels.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, and expert opinion.

Determinations

Pursuant to NAGPRA and its implementing regulations, and after consultation with the appropriate Indian Tribes and Native Hawaiian organizations, TxDOT has determined that:

• The human remains described in this notice represent the physical remains of 34 individuals of Native American ancestry.

• The 1,125 objects described in this notice are reasonably believed to have been placed with or near individual human remains at the time of death or later as part of the death rite or ceremony.

• There is a relationship of shared group identity that can be reasonably traced between the human remains and associated funerary objects described in this notice and the Caddo Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 18, 2023. If competing requests for repatriation are received, TxDOT must determine the most appropriate requestor prior to repatriation. Requests for joint repatriation of the human remains and associated funerary objects are considered a single request and not competing requests. TxDOT is responsible for sending a copy of this notice to the Indian Tribe identified in this notice.

Authority: Native American Graves Protection and Repatriation Act, 25 U.S.C. 3003, and the implementing regulations, 43 CFR 10.9, 10.10, and 10.14.

Dated: August 9, 2023.
Melanie O'Brien,
Manager, National NAGPRA Program.

[FR Doc. 2023-17789 Filed 8-17-23; 8:45 am]

BILLING CODE 4312-52-P